DEPARTMENT OF COMMERCE

International Trade Administration

[A-122-838]

Certain Softwood Lumber Products from Canada: Notice of Initiation of Antidumping Duty New Shipper Review

AGENCY: Import Administration, International Trade Administration, Department of Commerce.

EFFECTIVE DATE: June 30, 2006.

SUMMARY: The Department of Commerce (the Department) has received a request to conduct a new shipper review of the antidumping duty (AD) order on certain softwood lumber from Canada. In accordance with section 751(a)(2)(B) of the Tariff Act of 1930, as amended (the Act), and 19 CFR 351.214(d) (2005), we are initiating an AD new shipper review for Terrace Lumber Company (Terrace).

FOR FURTHER INFORMATION CONTACT: Constance Handley or David Layton at (202) 482-0631 and (202) 482-0371, respectively; Office 1, AD/CVD Operations, Import Administration, International Trade Administration, U.S. Department of Commerce, 14th Street and Constitution Avenue, NW., Washington, DC 20230.

SUPPLEMENTARY INFORMATION:

Background

On May 23, 2006, the Department received a timely request from Terrace, in accordance with 19 CFR 351.214, for a new shipper review of the AD order on certain softwood lumber products from Canada, which has a May anniversary month.¹ Terrace was incorporated in Canada on April 7, 2005. Terrace made its first sale shipped to the United States in September 2005. Terrace states that it sells 100 percent of its products to exporter/importer International Forest Products Corporation (IFP). Terrace is the first party in the chain of distribution with knowledge that the merchandise is destined for the United States.

¹ See Notice of Amended Final Determination of Sales at Less Than Fair Value and Antidumping Duty Order: Certain Softwood Lumber Products From Canada, 67 FR 36068, 36070 (May 22, 2002).

As required by 19 CFR 351.214 (b)(2)(i) and 19 CFR 351.214 (b)(2)(iii)(A), Terrace certified that it did not export certain softwood lumber to the United States during the period of investigation (POI), and that it has never been affiliated with any exporter or producer which exported certain softwood lumber during the POI.² In addition, IFP, as the exporter for Terrace, certified that it also did not export certain softwood lumber to the United States during the POI, and that it has never been affiliated with any exporter or producer which exported certain softwood lumber during the POI.³ Furthermore, pursuant to 19 CFR 351.214(b)(2)(iv), the company submitted documentation establishing the date on which it first shipped the subject merchandise to the United States, the date of entry of that first shipment, the volume of that and subsequent shipments, and the date of the first sale to an unaffiliated customer in the United States.

² See Submission from Terrace to the Department regarding Request for New Shipper Review, dated May 23, 2006.

³ See id.

Initiation of Review

In accordance with section 751(a)(2)(B) of the Act and 19 CFR 351.214(b), and based on information on the record, we are initiating an AD new shipper review for Terrace. We intend to issue the preliminary results of this new shipper review not later than 180 days after initiation of this review. We intend to issue final results of this review no later than 90 days after the date on which the preliminary results are issued. See 19 CFR 351.214(i).

New shipper review proceeding | Period to be reviewed
Terrace Lumber Company | 05/01/05-4/30/06

We will instruct U.S. Customs and Border Protection to allow, at the option of the importer, the posting, until the completion of the review, of a bond or security in lieu of a cash deposit for each entry of the subject merchandise from the above-listed company in accordance with section 751(a)(2)(B)(iii) of the Act and 19 CFR 351.214(e).

Interested parties that need access to proprietary information in this new shipper review should submit applications for disclosure under administrative protective orders in accordance with 19 CFR 351.305 and 351.306.

This initiation and notice are in accordance with section 751(a)(2)(B) of the Act, 19 CFR 351.214(d) and 19 CFR 351.221(c)(1)(i).

Dated: June 28, 2006.
Stephen J. Claeys,
Deputy Assistant Secretary for Import Administration.

[FR Doc. E6-10364 Filed 6-29-06; 8:45 am]

BILLING CODE 3510-DS-P